NATIONAL COUNCIL ON DISABILITY

Sunshine Act Meetings

Time and Dates: The Members of the National Council on Disability (NCD) will hold a quarterly meeting on Thursday, May 5, 2016, 1:00 p.m.-4:00 p.m. (Eastern Daylight Time), and on Friday, May 6, 2016, 9:00 a.m.-4:30 p.m. (Eastern Daylight Time) in Washington, DC.

Place: The meeting will occur at a different location each day. On Thursday, the quarterly meeting will be held at the White House Old Executive Office Building. The location, due to security clearance considerations, will not be open to the public for in-person attendance, however the quarterly meeting's proceedings will be available by phone to all interested parties (in a listen-only capacity with the exception of the public comment period). Interested parties may access Thursday's meeting's proceedings by phone by using the following call-in number: 888-428-9490; passcode: 9482562. If asked, the call host's name is Clyde Terry. On Friday, the quarterly meeting will be held at the Access Board Conference Room, 1331 F Street NW., Suite 800, Washington, DC. Interested parties may join the meeting in person or by phone in a listening-only capacity (with the exception of the public comment period) using the following call-in number: 888-428-9490; passcode: 9482562. If asked, the call host's name is Clyde Terry.

Matters to be Considered: The Council will host a strategy session on legislative and other next steps for its 2012 “Rocking the Cradle” report on the rights of parents with disabilities and their children; and hear policy presentations on the topics of mental health services in higher education, and Medicaid managed care and the direct care workforce. The Council will also receive reports from its standing committees; and receive public comment during two town halls, on the topics of mental health services in higher education; and challenges of the direct care workforce.

Agenda: The times provided below are approximations for when each agenda item is anticipated to be discussed (all times Eastern):

Thursday, May 5

1:00-4:00 p.m.—Strategy session on legislative and other next steps for NCD's 2012 “Rocking the Cradle” report on the rights of parents with disabilities and their children.

4:00 p.m.—Adjourn

Friday, May 6

9:00-9:30 a.m.—Welcome and Introductions

9:30-10:15 a.m.—Update on the Progress Report

10:15-10:30 a.m.—Break

10:30-11:15 a.m.—Mental Health Services in Higher Education Panel

11:15-11:45 a.m.—Town Hall to Receive Comments on Mental Health Services in Higher Education

11:45 a.m.-12:45 p.m.—Lunch Break

12:45-1:30 p.m.—Medicaid Managed Care and Challenges for the Direct Care Workforce

1:30-2:00 p.m.—Town Hall to Receive Comments on Direct Care Workforce Challenges

2:00-2:15 p.m.—Break

2:15-3:30 p.m.—Council discussion about next fiscal year's policy priorities

3:30-4:30 p.m.—NCD Business Meeting

4:30 p.m.—Adjournment

Public Comment: To better facilitate NCD's public comment, any individual interested in providing public comment is asked to register his or her intent to provide comment in advance by sending an email to PublicComment@ncd.gov with the subject line “Public Comment” with your name, organization, state, and topic of comment included in the body of your email. Full-length written public comments may also be sent to that email address. All emails to register for public comment at the quarterly meeting must be received by Wednesday, May 4, 2016. Priority will be given to those individuals who are in-person to provide their comments during the town hall portions of the agenda. Those commenters on the phone will be called on according to the list of those registered via email. Due to time constraints, NCD asks all commenters to limit their comments to three minutes. Comments received at the May quarterly meeting will be limited to those regarding mental health services in higher education, and challenges to the direct care workforce, each during its respective slot of time for the themed town hall as previously noted in the agenda.

Contact Person: Anne Sommers, NCD, 1331 F Street NW., Suite 850, Washington, DC 20004; 202-272-2004 (V), 202-272-2074 (TTY).

Accommodations: A CART streamtext link has been arranged for this teleconference meeting. The web link to access CART on Thursday, May 5, 2016 is: https://www.streamtext.net/player?event=050516ncd100pm; and on Friday, May 6, 2016 is: https://www.streamtext.net/player?event=050615ncd830am.

Those who plan to attend the meeting in-person and require accommodations should notify NCD as soon as possible to allow time to make arrangements. To help reduce exposure to fragrances for those with multiple chemical sensitivities, NCD requests that all those attending the meeting in person refrain from wearing scented personal care products such as perfumes, hairsprays, and deodorants.

Dated: April 20, 2016.
Rebecca Cokley,
Executive Director.

[FR Doc. 2016-09592 Filed 4-20-16; 4:15 pm]

BILLING CODE 8421-03-P